DEPARTMENT OF HEALTH AND HUMAN SERVICES

Meetings Announcement for the Physician-Focused Payment Model Technical Advisory Committee Required by the Medicare Access and CHIP Reauthorization Act of 2015 (MACRA); Correction

ACTION: Notice of public meetings; correction.

SUMMARY: The Department of Health and Human Services published a document in the Federal Register of November 29, 2019 detailing the 2020 PTAC meeting dates and the link that connects to the meeting registration website. The March meeting date was postponed until June due to the public health emergency. The June meeting date has been shortened to a one day meeting that will be taking place from 10:00 a.m. to 3:00 p.m. ET virtually.

FOR FURTHER INFORMATION CONTACT: Audrey McDowell, Designated Federal Official, at the Office of Health Policy, Assistant Secretary for Planning and Evaluation, U.S. Department of Health and Human Services, 200 Independence Ave. SW, Washington, DC 20201, (202) 690-6870.

SUPPLEMENTARY INFORMATION:

Correction

In the Federal Register of November 29, 2019, in FR Doc. 2019-25898, on page 65828, in the first column, correct the “Dates” caption to read:

DATES: The 2020 PTAC meetings will occur on the following dates:

• Monday, June 22, 2020, from 10:00 a.m. to 3:00 p.m. ET

• Tuesday-Wednesday, September 15-16, 2020, from 9:00 a.m. to 5:00 p.m. ET

• Monday-Tuesday, December 7-8, 2020, from 9:00 a.m. to 5:00 p.m. ET

Please note that times are subject to change. If the times change, registrants will be notified directly via email.

Correction

In the Federal Register of November 29, 2019, in FR Doc. 2019-25898, on page 65828, in the first column, correct the “Address” caption to read:

ADDRESSES: All 2020 PTAC meetings will be held in the Great Hall of the Hubert H. Humphrey Building, 200 Independence Avenue SW, Washington, DC 20201 or virtually.

Correction

In the Federal Register of November 29, 2019, in FR Doc. 2019-25898, on page 65828, in the first column, correct the FOR FURTHER INFORMATION CONTACT caption to read:

FOR FURTHER INFORMATION CONTACT: Audrey McDowell, Designated Federal Officer, (202) 690-6870.

Correction

In the Federal Register of November 29, 2019, in FR Doc. 2019-25898, on page 65828, beginning in the first column and continuing to the second column, correct the “Meeting Attendance” caption to read:

Meeting Attendance. These meetings are open to the public. For meetings that are held in the Great Hall of the Hubert Humphrey Building, the public may attend in person, via conference call, or view the meeting via livestream at www.hhs.gov/live. The conference call dial-in information will be sent to registrants prior to the meeting. Space may be limited, and registration is preferred. For meetings that are held virtually, the public may by attend via virtual meeting WebEx link (including a dial-in only option), or view the meeting via livestream at www.hhs.gov/live. Registration may be completed online at http://www.cvent.com/d/gbq2tg. Name, organization name, and email address are submitted when registering. Registrants will receive a confirmation email shortly after completing the registration process.

Dated: June 10, 2020.
Brenda Destro,
Deputy Assistant Secretary for Planning and Evaluation (HSP).

[FR Doc. 2020-13186 Filed 6-16-20; 4:15 pm]

BILLING CODE 4150-15-P